DEPARTMENT OF TRANSPORTATION

Federal Aviation Administration

Notice of Intent To Rule on Request To Release Airport Property at the Pierce County Airport/Thun Field, Puyallup, WA

AGENCY: Federal Aviation Administration (FAA), DOT.

ACTION: Notice of intent to release airport property.

SUMMARY: The FAA proposes to rule and invite public comment on the release of land at Pierce County Airport/Thun Field under the provisions of Section 125 of the Wendell H. Ford Aviation Investment Reform Act for the 21st Century (AIR 21).

DATES: Comments must be received on or before May 4, 2007.

ADDRESSES: Comments on this application may be mailed or delivered to the FAA at the following address; Mr. J. Wade Bryant, Manager, Federal Aviation Administration, Northwest Mountain Region, Airports Division, Seattle Airports District Office, 1601 Lind Avenue, SW., Suite 250, Renton, Washington 98057-3356.

In addition, one copy of any comments submitted to the FAA must be mailed or delivered to Mr. Michael Esher, Airport Administrator, 2702 S 42nd Street, Room 201, Tacoma, Washington 98409-7322.

FOR FURTHER INFORMATION CONTACT: Mr. Jeff Winter, Project Manger, Federal Aviation Administration, Northwest Mountain Region, Airports Division, Seattle Airports District Office, 1601 Lind Avenue, SW., Suite 250, Renton, Washington 98057-3356.

The request to release property may be reviewed in person at this same location, by appointment.

SUPPLEMENTARY INFORMATION: The FAA invites public comment on the request to release property at the Pierce County Airport/Thun Field under the provisions of the AIR 21.

On March 8, 2007, the FAA determined that the requests to release property at Pierce County Airport/Thun Field submitted by the country met the procedural requirements of the Order 5290.6A. The FAA may approve the request, in whole or in part, no later than May 15, 2007.

The following is a brief overview of the request:

Pierce County Airport/Thun Field requests the release of 0.13 acres of airport runway approach protection property to Tarragon Development. The purpose of this release is to transfer to Tarragon Development a Dedication of Permanent Road and Utility Easement for the needed right-of-way and slope easements for the construction of 160th Street on the north side of the airport. Pierce County, a political subdivision of the State of Washington, on behalf of the Pierce County Airport/Thun Field requests the release from the terms, conditions, reservations, and restrictions imposed upon the property purchased with AIP grant funds, and the release of the subject property from any assurances of the County as sponsor as contained in any FAAP, ADAP, or AIP grant agreement. The release of the property will benefit the users of the airport in that the airport will obtain at no cost, a road connection for access to the East side airport parcel from the proposed 160th Street.

Any person may inspect the request in person at the FAA office listed above under FOR FURTHER INFORMATON CONTACT.

In addition, any person may, upon request, inspect the application, notice and other documents germane to the application, in person at the Pierce County Airport, 16715 Meridian E., Puyallup, Washington 98375.

Issued in Renton, Washington on March 21, 2007.
J. Wade Bryant,
Manager, Seattle Airports District Office.

[FR Doc. 07-1482 Filed 3-26-07; 8:45 am]

BILLING CODE 4910-13-M